DEPARTMENT OF THE INTERIOR

Fish and Wildlife Service

[FWS-R1-R-2009-N0112; 1265-0000-10137-S3]

Lewis and Clark National Wildlife Refuge and Julia Butler Hansen Refuge for the Columbian White-Tailed Deer

AGENCY: Fish and Wildlife Service, Interior.

ACTION: Notice of availability: draft comprehensive conservation plan and draft environmental impact statement; request for comments.

SUMMARY: We, the U.S. Fish and Wildlife Service (Service), announce the availability of our draft comprehensive conservation plan and draft environmental impact statement (CCP/DEIS) for the Lewis and Clark National Wildlife Refuge and Julia Butler Hansen Refuge for the Columbian White-tailed Deer (refuge or, collectively, refuges) for public review and comment. The CCP/DEIS describes our proposal for managing the refuges for the next 15 years. Both refuges are managed as part of the Willapa National Wildlife Refuge Complex located in Ilwaco, WA.

DATES: To ensure consideration, please send your written comments by March 29, 2010.

ADDRESSES: More information on the refuges is available on the Internet at http://www.fws.gov/willapa. You may submit comments, request a copy of the CCP or EIS, or request more information by either of the following methods:

E-mail: FW1PlanningComments@fws.gov. Include “Lewis and Clark CCP” and/or “Julia Butler Hansen CCP” in the subject line of the message.

U.S. Mail: Charlie Stenvall, Project Leader, Willapa National Wildlife Refuge Complex, 3888 SR 101, Ilwaco, Washington 98624.

FOR MORE INFORMATION CONTACT: Charlie Stenvall, Project Leader, (360) 484-3482.

SUPPLEMENTARY INFORMATION:

Background

The CCP Process

The CCP/DEIS was prepared pursuant to the National Wildlife Refuge System Administration Act of 1966 (16 U.S.C. 668dd-668ee) as amended (Refuge Administration Act); the National Environmental Policy Act of 1969 (42 U.S.C. 4321 et seq.) (NEPA); and the Service's Wilderness Stewardship Policy (610 FW 3). The Refuge Administration Act requires us to develop a CCP for each national wildlife refuge. The purpose of developing a CCP is to provide refuge managers a 15-year plan for achieving refuge purposes and contributing toward the mission of the National Wildlife Refuge System, consistent with sound principles of fish and wildlife conservation, management, legal mandates, and our policies. In addition to outlining broad management direction for conserving wildlife and their habitats, CCPs identify wildlife-dependent recreational opportunities available to the public, including hunting, fishing, wildlife observation and photography, and environmental education and interpretation. As part of a single planning process, the CCP/DEIS covers both refuges. At the conclusion of the planning process, the final documentation will be separated into two individual CCPs, one for each refuge. We will review and update the CCPs at least every 15 years in accordance with the Refuge Administration Act.

Public Outreach

We started the public scoping phase of the CCP planning process by publishing a Notice of Intent in the Federal Register on September 21, 2006 (71 FR 55214), announcing our intention to complete a CCP/EIS for the refuges and inviting public comments. A list of public involvement efforts we have completed to date follows.

• In September 2006, we distributed Planning Update 1 to our project mailing list and public outlets located near one or both refuges. In it, we announced the initiation of the planning process, invited the public to a series of open house meetings, provided background information on the refuges, and requested public comments on refuge management activities.

• Between October 17 and 24, 2006, we held four public open house meetings in communities near the refuges to meet the public and obtain comments on refuge management issues. The meetings were announced though local media via press releases, Web sites, and in Planning Update 1.

• In February 2007, we distributed Planning Update 2, which included a summary of the public meetings and the public comments we obtained at the meetings and through other means, a planning schedule, and draft vision statements for the refuges.

Overview of the Refuges

The Julia Butler Hansen Refuge for the Columbian White-tailed Deer was established in 1971, specifically to protect and manage habitat for the endangered Columbian white-tailed deer. The refuge contains over 6,000 acres of pastures, forested tidal swamps, brushy woodlots, marshes, and sloughs along the Columbia River, in southwestern Washington and northwestern Oregon. The refuge's Mainland Unit, Hunting Islands, and Price Island are located in Washington. The refuge's Tenasillahe Island, Crims Island, Wallace Island, and Westport Unit are located in Oregon. The refuge habitat protected for the Columbian white-tailed deer also benefits a large variety of wintering birds; a small herd of Roosevelt elk; river otters; painted turtles, red-legged frogs, and other reptiles and amphibians; and several pairs of nesting bald eagles and ospreys. Staff members for both refuges are located on the Julia Butler Hansen Refuge for the Columbian White-tailed Deer in Wahkiakum County, near the town of Cathlamet, Washington.

The Lewis and Clark National Wildlife Refuge was established in 1972 to preserve the vital fish and wildlife habitat of the Columbia River estuary. Riverine islands contain habitats ranging from tidal sand flats and marshes to forested swamps and upland pastures. This combination supports large numbers of migratory birds, including waterfowl, waterbirds, shorebirds, and a variety of raptors and songbirds. The refuge's islands are accessible only by boat and include approximately 18 named islands and a number of unnamed islands and marshes stretching over 25 miles of the Columbia River.

Draft Alternatives We Are Considering

We drafted two alternatives for managing the Lewis and Clark Refuge, and three alternatives for managing the Julia Butler Hansen Refuge. Draft compatibility determinations for public uses are also available as an appendix to the CCP/DEIS. Brief descriptions of the alternatives follow.

Lewis and Clark Refuge Alternative 1

This alternative assumes no change from the current refuge management programs. Habitat management would consist of monitoring refuge islands and treating invasive plant infestations as funding allows. Refuge staff members would continue to protect and maintain wintering and foraging habitat for migratory waterfowl, and nesting and roosting habitat for bald eagles. Existing public uses, including hunting, fishing, and wildlife observation and photography, would continue at current levels.

Lewis and Clark Refuge Alternative 2

Under Alternative 2 (the preferred alternative), current wildlife and habitat management would be maintained. Key refuge enhancements would include establishing or expanding partnerships for managing invasive species, recruiting graduate students to conduct needed wildlife and habitat research, and meeting with the Oregon Department of State Lands to discuss options for managing State lands within the approved refuge acquisition boundary. The refuge would work to expand opportunities for public uses, particularly wildlife observation and photography. Refuge lands that meet the basic criteria for wilderness would be the subject of additional studies for a potential wilderness recommendation. Refuge staff would also work with partners to ensure dredge-spoil islands provide benefits for wildlife.

Julia Butler Hansen Refuge Alternative 1

Under Alternative 1, no changes to the current refuge management programs would occur. We would continue to maintain and protect habitats, establish early successional riparian forest habitat, maintain predator management January through April, and continue wildlife-dependent public use programs.

Julia Butler Hansen Refuge Alternative 2

Under Alternative 2 (the preferred alternative), the refuge would make certain changes, including closing a small section of Steamboat Slough to waterfowl hunting to improve public safety. Refuge lands that meet the basic criteria for wilderness would be the subject of additional studies for a potential wilderness recommendation. To achieve the recovery goals for the Columbia white-tailed deer, predator management would take place on an as-needed basis year-round under this alternative. We would expand the Columbia white-tailed deer population by establishing an experimental population upriver. The wildlife-dependent public use programs would include developing two trails, opening Crims and Price Islands to waterfowl hunting, and improving print and interpretive media.

Julia Butler Hansen Refuge Alternative 3

To achieve recovery goals for the Columbian white-tailed deer, we would conduct predator management January through August. In addition, refuge lands that meet the basic criteria for wilderness would be the subject of additional studies for a potential wilderness recommendation. The wildlife-dependent public use programs would include developing a bicycle and hiking trail, opening Crims and Price Islands to waterfowl hunting, closing a small section of Steamboat Slough to waterfowl hunting to improve public safety, installing new interpretive exhibit panels, and developing curriculum for the refuge study sites.

Public Availability of Documents

We encourage you to stay involved in the CCP planning process by reviewing and commenting on the proposals we have developed in the CCP/DEIS. Copies of the CCP/DEIS on CD-ROM are available by request from Charlie Stenvall, Project Leader, Willapa National Wildlife Refuge Complex, 3888 SR 101, Ilwaco, WA 98624; phone (360) 484-3482. The Draft CCP/EIS will also be available for viewing and downloading on the Internet at http://www.fws.gov/lc and http://www.fws.gov/jbh. Printed copies of the CCP/DEIS may be reviewed at the Julia Butler Hansen Refuge for the Columbian White-tailed Deer, 46 Steamboat Slough Road, Cathlamet, WA 98612; Willapa National Wildlife Refuge Complex (address above); and at the following libraries.

• Blanch Bradley Library, 100 Main Street, Cathlamet, WA 98612.

• Astoria Public Library, 450 10th Street, Astoria, OR 97103.

• Clatskanie Library District, 11 Lillich Street, Clatskanie, OR 97016.

• Ilwaco Timberline Regional Library, 158 1st Avenue, Ilwaco, WA 98624.

• Longview Public Library, 1600 Louisiana Street, Longview, WA 98632.

Next Steps

After this comment period ends, we will analyze the comments and address them in the form of a final CCP/EIS.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: January 15, 2010.
David J. Wesley,
Regional Director, Region 1, Portland, Oregon.

[FR Doc. 2010-1292 Filed 2-9-10; 8:45 am]

BILLING CODE P